DEPARTMENT OF TRANSPORTATION

Federal Aviation Administration

Forty-Seventh Meeting, RTCA Special Committee 186: Automatic Dependent Surveillance—Broadcast (ADS-B)

AGENCY: Federal Aviation Administration (FAA), DOT.

ACTION: Notice of RTCA Special Committee 186 Automatic Dependent Surveillance—Broadcast (ADS-B) meeting.

SUMMARY: The FAA is issuing this notice to advise the public of a meeting of RTCA Special Committee 186 Automatic Dependent Surveillance—Broadcast (ADS-B).

DATES: The meeting will be held February 23-27, 2009, at 9 a.m. (Unless Otherwise Noted).

ADDRESSES: The meeting will be held at two locations:

• Eurocontrol Headquarters—Brussels, Belgium

• RTCA Conference Rooms, 1828 L Street, NW., Suite 805, Washington, DC 20036

Note: Phone bridge and Webex will be available. Individuals desiring that information should contact RTCA.

FOR FURTHER INFORMATION CONTACT: (1) RTCA Secretariat, 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting. The agenda will include:

Feb. 23

Brussels—All Day, Requirements Focus Group (RFG), RAD FRAC.

Brussels—All Day, Requirements Focus Group (RFG), ASA.

Feb. 24

Brussels—All Day, Requirements Focus Group (RFG), RAD FRAC.

Brussels—All Day, Requirements Focus Group (RFG), ASA.

RTCA—All Day, WG-4, MacIntosh-NBAA Room & Hilton-ATA Room.

Feb. 25

Brussels—All Day, Requirements Focus Group (RFG), RAD FRAC.

Brussels—All Day, Requirements Focus Group (RFG), ASA.

RTCA—All Day, WG-4, MacIntosh-NBAA Room & Hilton-ATA Room.

Feb. 26

Brussels—All Day, Requirements Focus Group (RFG), RAD FRAC.

Brussels—All Day, Requirements Focus Group (RFG), ASA.

RTCA—All Day, WG-4, MacIntosh-NBAA Room & Hilton-ATA Room.

February 27, Joint RTCA SC-186/EUROCAE WG-51

(Starting at 2 p.m. in Brussels and 8 a.m. at RTCA)

• Chairman's Introductory Remarks.

• Review of Meeting Agenda.

• Review/Approval of the Forty-Sixth Meeting Summary.

• RTCA Paper No. 267-08/SC186-270.

• In Brussels—Consider for Approval—New Document—Safety and Performance Requirements (SPR) Standard for ADS-B-RAD, RTCA Paper No. 008-09/SC186-271. Date, Place and Time of Next Meeting.

• FAA Surveillance and Broadcast Services (SBS) Program—Status.

• Review of EUROCAE WG-51 Activities.

• Working Group Reports.

• WG-1—Operations and Implementation

• WG-2—TIS-B MASPS

• WG-3—1090 MHz MOPS

• WG-4—Application Technical Requirements

• WG-5—UAT MOPS

• RFG—Requirements Focus Group

• Ad Hoc Reports

• CDTI Symbology

• TIS-B Service Status

• STP Ad Hoc Final Report

• At RTCA—Consider for Approval—New Document—Minimum Operational Performance Standards for Aircraft Surveillance Applications System (ASAS), RTCA Paper No. 022-09/SC186-273.

• Closing Plenary Session (New Business, Other Business, Review Action Items/Work Programs, Adjourn Plenary.)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 29, 2009.
Francisco Estrada C.,
RTCA Advisory Committee.

[FR Doc. E9-2476 Filed 2-4-09; 8:45 am]

BILLING CODE 4910-13-P